DEPARTMENT OF COMMERCE

National Oceanic and Atmospheric Administration

Agency Information Collection Activities; Submission to the Office of Management and Budget (OMB) for Review and Approval; Comment Request; Transshipment Requirements Under the WCPFC

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 2, 2024 during a 60-day comment period. This notice allows for an additional 30 days for public comments.

Agency: National Oceanic and Atmospheric Administration (NOAA), Commerce.

Title: Transshipment Requirements under the WCPFC.

OMB Control Number: 0648-0649.

Form Number(s): None.

Type of Request: Regular submission; extension of a current information collection.

Number of Respondents: 203.

Average Hours per Response: 0-1 hour per collection item.

Total Annual Burden Hours: 959 hours.

Needs and Uses: This request is for an extension of a currently approved information collection. National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Convention), including implementing the decisions of the Commission for the Conservation and Management of Highly Migratory Fish Stocks in the Western and Central Pacific Ocean (WCPFC or Commission). The regulations include requirements for the owners and operators of U.S. vessels to: (1) complete and submit a Pacific Transshipment Declaration form for each transshipment that takes place in the area of application of the Convention (Convention Area) of highly migratory species caught in the Convention Area, (2) submit notice to the WCPFC Executive Director containing specific information at least 36 hours prior to each transshipment on the high seas in the Convention Area and within 12 hours after each emergency transshipment in the Convention Area, (3) in the event that a vessel anticipates a transshipment where an observer is required, provide notice to NMFS at least 72 hours before leaving port of the need for an observer, (4) complete and submit a U.S. Purse Seine Discard form within 48 hours after any discard, (5) submit daily purse seine fishing effort reports; (6) submit a notice to a contact designated by NMFS in the event of a serious illness, assault, harassment, intimidation or threat to a WCPFC observer; and (7) submit notice to obtain a WCPFC observer for a purse seine vessel departing from American Samoa.

The information collected from these requirements is used by NOAA and the Commission to help ensure compliance with domestic laws and the Commission's conservation and management measures, and are necessary in order for the United States to satisfy its obligations under the Convention. There are no changes to this collection.

Affected Public: Business or other for-profit organizations; individuals or households.

Frequency: On Occasion.

Respondent's Obligation: Mandatory.

Legal Authority: WCPFCIA; 16 U.S.C. 6901 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0649.

Sheleen Dumas,
Department PRA Clearance Officer, Office of the Under Secretary for Economic Affairs, Commerce Department.

[FR Doc. 2024-10534 Filed 5-13-24; 8:45 am]

BILLING CODE 3510-22-P